DEPARTMENT OF HOMELAND SECURITY

Coast Guard

[Docket No.—USCG-2015-0201]

Chemical Transportation Advisory Committee; Vacancies

AGENCY: Coast Guard, DHS

ACTION: Request for applications.

SUMMARY: The Coast Guard seeks applications for membership on the Chemical Transportation Advisory Committee. The Chemical Transportation Advisory Committee provides advice and makes recommendations on matters relating to the safe and secure marine transportation of hazardous materials activities insofar as they relate to matters within the United States Coast Guard's jurisdiction.

DATES: Completed applications should reach the Coast Guard on or before June 8, 2015.

ADDRESSES: Applicants should send a cover letter expressing interest in an appointment to the Chemical Transportation Advisory Committee that also identifies which membership category the applicant is applying under, along with a resume detailing the applicant's experience via one of the following methods:

• By Email: cristina.e.nelson@uscg.mil.

• By Fax: (202) 372-8380.

• By Mail: Lieutenant Cristina Nelson, Alternate Designated Federal Official of Chemical Transportation Advisory Committee, Commandant, Hazardous Materials Division (CG-ENG-5), U.S. Coast Guard, 2703 Martin Luther King Jr. Avenue SE., Stop 7509 Washington, DC 20593-7509.

FOR FURTHER INFORMATION CONTACT: Lieutenant Cristina Nelson, 2703 Martin Luther King Jr. Avenue SE., Stop 7509, Washington, DC 20593-7509, cristina.e.nelson@uscg.mil, phone: 202-372-1419, fax: 202-372-8380.

SUPPLEMENTARY INFORMATION: The Chemical Transportation Advisory Committee is established under the authority of section 871 of the Homeland Security Act of 2002, 6 U.S.C. 451. Chemical Transportation Advisory Committee is an advisory committee established in accordance with and operating under the provisions of the Federal Advisory Committee Act, (5 U.S.C. Appendix).

The Committee provides advice and recommendations to the Department of Homeland Security on matters relating to the safe and secure marine transportation of hazardous materials activities insofar as they relate to matters within the Coast Guard's jurisdiction.

The Chemical Transportation Advisory Committee meets at least twice per year, typically every six months. It may also meet for extraordinary purposes. Its subcommittees may meet to consider specific problems as required.

The Coast Guard will consider applications for eight positions that become vacant on September 17, 2015. The membership categories are: Marine Handling and Transportation, Marine Environmental Protection, Safety and Security, Vessel Design and Construction, and Chemical Manufacturing.

To be eligible, applicants should have experience in chemical manufacturing, marine handling or transportation of chemicals, vessel design and construction, marine safety or security, or marine environmental protection. Each member serves for a term of three years. Committee members are limited to serving no more than two consecutive three-year terms. A member appointed to fill an unexpired term may serve the remainder of that term. All members serve at their own expense and receive no salary, reimbursement of travel expenses, or other compensation from the Federal Government.

Registered lobbyists are not eligible to serve on Federal Advisory Committees in an individual capacity. See “Revised Guidance on Appointment of Lobbyist to Federal Advisory Committees, Boards and Commissions” (79 FR 47482, August 13, 2014). Registered lobbyists are lobbyists required to comply with provisions contained in the Lobbying Disclosure Act of 1995 (Pub. L. 104-65, as amended by title II of Pub. L. 110-81).

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Lieutenant Cristina Nelson, Alternate Federal Officer of Chemical Transportation Advisory Committee, by email or mail according to instructions in the ADDRESSES section by the deadline in the DATES section of this notice.

Note, that during the vetting process, applicants may be asked to provide their date of birth and social security number. All email submittals will receive email receipt confirmation.

To visit our online docket, go to http://www.regulations.gov enter the docket number (for this notice (USCG-2015-0201) in the Search box, and click “Search”. Please do not post your resume on this site.

Dated: April 2, 2015.
J.G. Lantz,
Director of Commercial Regulations and Standards, United States Coast Guard.

[FR Doc. 2015-08034 Filed 4-7-15; 8:45 am]

BILLING CODE 9110-04-P